DEPARTMENT OF THE INTERIOR

Fish and Wildlife Service

Notice of Intent To Prepare an Environmental Impact Statement for a Proposed Land Exchange in Yukon Flats National Wildlife Refuge, AK

AGENCY: Fish and Wildlife Service, Department of the Interior.

ACTION: Notice of intent.

SUMMARY: This notice advises the public that the Fish and Wildlife Service intends to prepare an Environmental Impact Statement, pursuant to the National Environmental Policy Act of 1969 and its implementing regulations, for a proposed land exchange and acquisition of certain lands owned by Doyon, Limited within the Yukon Flats National Wildlife Refuge, Alaska. The Service is furnishing this notice to advise the public and other agencies of our intentions and to solicit suggestions and information on the scope of issues to be addressed in the environmental document. Special mailings, newspaper articles, and other media releases will announce opportunities to provide written and oral input. Public meetings will be held in the cities of Fairbanks, Anchorage, and in communities within and adjacent to the Refuge. The Draft Environmental Impact Statement will be available for viewing and downloading at http://alaska.fws.gov/nwr/yukonflats/current.htm.

DATES: Public scoping meetings will be scheduled for February in Anchorage, Fairbanks, and the communities of Arctic Village, Beaver, Birch Creek, Central, Chalkyitsik, Circle, Fort Yukon, Stevens Village, and Venetie. Meeting dates, times, and locations will be announced at least 30 days prior to the meeting.

ADDRESSES: Address comments, questions, and requests to Cyndie Wolfe, Project Coordinator, U.S. Fish and Wildlife Service, 1011 East Tudor Rd., MS-231, Anchorage, AK 99503, or yukonflats_noi@fws.gov.

FOR FURTHER INFORMATION, CONTACT: Cyndie Wolfe, Project Coordinator, U.S. Fish and Wildlife Service, 1011 East Tudor Rd., MS-231, Anchorage, AK 99503, phone number 907-786-3463 or yukonflats_noi@fws.gov. Additional information concerning the proposed land exchange can be found at http://alaska.fws.gov/nwr/yukonflats/current.htm.

SUPPLEMENTARY INFORMATION: Doyon, Limited (Doyon) is an Alaska Native Regional Corporation established under the Alaska Native Claims Settlement Act of 1971 (ANCSA; 43 U.S.C. 1601 et seq.) Under the authority of ANCSA, Congress granted to Doyon land entitlements within an area that became the Yukon Flats National Wildlife Refuge (Refuge) in 1980. Doyon has ownership interests in approximately 2.14 million acres within the boundaries of the Refuge, including the surface and subsurface estates of 1.25 million acres of land, and the subsurface estate of another 890,000 acres. An additional 56,517 acres remain to be allocated by Doyon to Village Corporations located in the Refuge; Doyon would own the subsurface to these lands. Doyon is owned by over 14,000 Alaska Natives (Native Americans) with ties to a large portion of interior Alaska. Approximately 1,000 people reside in several communities in the Yukon Flats. Most residents are Alaska Natives and many are Doyon shareholders.

The Yukon Flats Refuge is located in eastern interior Alaska. The exterior boundaries include about 11 million acres, of which about 2.14 million acres are owned by ANCSA Native corporations, including Doyon. The Refuge includes the Yukon Flats, a vast wetland basin bisected by the Yukon River. The basin is underlain by permafrost and includes a complex network of lakes, streams, and rivers. The Refuge supports the highest density of breeding ducks in Alaska, and includes one of the greatest waterfowl breeding areas in North America.

Negotiators for Doyon and the Fish and Wildlife Service (Service), Alaska Region, have agreed in principle to provide Doyon title to some Refuge lands that may hold developable oil and gas resources. In exchange, the United States (U.S.) would receive lands currently owned by Doyon within the Refuge boundary. These lands include wetlands previously identified by the Service as quality fish and wildlife habitat. In addition, both parties have agreed to exchange nearly six townships (264,000 acres) to consolidate ownerships and facilitate land management. All lands acquired by the U.S. would be managed as part of the Yukon Flats Refuge. Activities on Doyon lands are not subject to regulation by the Service.

To evaluate the exchange, the Service will prepare an Environmental Impact Statement (EIS) in accordance with procedures for implementing the National Environmental Policy Act of 1969 (NEPA; 42 U.S.C. 4321-4370d). Appropriate agencies will be invited to participate as cooperating or reviewing agencies. National Environmental Policy Act compliance is not legally required for land exchanges conducted under the provisions of ANCSA and the Alaska National Interest Lands Conservation Act (ANILCA; 16 U.S.C. 410hh-410hh-5, 460 mm-460mm-4, 539-539e, and 3101-3233; also 43 U.S.C. 1631-1642). However, at the request of Doyon and the public, the Department of the Interior has agreed to evaluate the proposed land exchange through the process of an EIS.

The EIS will evaluate a range of reasonable alternatives, including the following four alternatives. All these alternatives, including the “no action” alternative, could result in oil and/or gas development on Doyon-owned lands. Because access to Doyon lands would cross federally-owned lands, Doyon would be required to apply for a right-of-way permit under Title XI of ANILCA. At that time, a separate NEPA process would evaluate various transportation/pipeline corridor alternatives.

(1) Equal-value land exchange (based on fair market appraisals) as described in the Agreement in Principle (for the full text of the Agreement, see http://alaska.fws.gov/nwr/yukonflats/current.htm). Under Phase 1 of this agreement, Doyon would receive about 110,000 acres of Refuge lands with oil/gas potential and 97,000 acres of oil and gas interests (no surface occupancy). In exchange, the U.S. would receive from Doyon an equal-value amount of lands (tentatively estimated at 150,000 acres), with quality fish and wildlife habitats. In addition, Doyon would reallocate 56,517 acres of its remaining land entitlement outside the Refuge. Both parties would pursue additional township-level exchanges to consolidate ownerships. If Doyon discovers and produces oil or gas on the lands it acquires in the exchange, the Service would receive production payments to be used to: (1) Purchase from Doyon certain additional lands or interests therein, within the Refuge, (2) purchase land or interests therein, from other willing sellers in other national wildlife refuges in Alaska, or (3) to construct facilities in Alaska Refuges.

(2) No action. The U.S. would not enter into a land exchange with Doyon. Any oil or gas exploration/development by Doyon within the Refuge would be confined to Doyon's current land holdings. Under the provisions of ANILCA, the Service would be required to provide Doyon with adequate and feasible access to its holdings, which could include a road and/or pipeline across Refuge lands, if warranted by production.

(3) Modified land exchange with conservation easements. The land exchange would proceed as described in Phase 1 under Alternative 1 above. In addition, at the time of the initial exchange, Doyon would donate to the U.S. conservation easements that preclude development on those Doyon lands identified in Phase II of the Agreement in Principle (whether or not oil/gas is produced from the exchange lands). If Doyon were to produce oil/gas, the U.S. would receive reduced “production payments.”

(4) Modified land exchange excluding White-Crazy Mountains. The Yukon Flats Comprehensive Conservation Plan and Environmental Impact Statement recommended Wilderness designation for a 658,000 acre area in the White-Crazy Mountains. Under Alternatives 1 and 3, Doyon would receive title to about 26,270 acres of this land; under Atlternative 4, these 26,270 acres would be excluded from the exchange. In Phase I of the exchange, Doyon would receive approximately 84,000 acres of Refuge lands, surface and subsurface. From Doyon, the U.S. would receive an equal-value amount of land. Doyon would receive some oil and gas rights at the northern edge of the recommended Wilderness area, but only off-site drilling would be allowed; there would be no surface occupancy by Doyon. There would be no access corridor through the Service-recommended Wilderness area. The land consolidation exchange and 12(b) reallocation provisions of Phase I would proceed as detailed in the Agreement in Principle. Phase II of the exchange, would proceed as detailed in the Agreement, however Doyon's commitment to sell the U.S. additional lands would be reduced from about 120,000 acres to about 80,000 acres.

The Fish and Wildlife Service released an Evaluation and Review of a Proposed Land Exchange and Acquisition of Native Lands on February 3, 2005, and accepted public comments until July 30, 2005. The Evaluation and Review, along with the comments received to date will be used in the scoping of a more detailed analysis through the EIS process. The Summary of Public Comments on a Proposed Land Exchange, Yukon Flats National Wildlife Refuge, 2005 is posted at http://alaska.fws.gov/nwr/yukonflats/current.htm. Issues of concern repeatedly identified during the public comment period that will be addressed in the EIS may include, but are not limited to:

(1) Refuge Purposes. The potential conflict between the proposed land exchange and the purposes of the Refuge;

(2) Environmental Impacts. The potential for environmental degradation and contamination of air, water, and fish and wildlife resources;

(3) Subsistence Impacts. The potential for negative effects on subsistence resources and increased user conflicts;

(4) Impacts to Special Designation Areas. The potential for the exchange to jeopardize the wilderness character of the Service-recommended White-Crazy Mountains Wilderness Area and to degrade the “wild” quality of the Beaver Creek Wild River;

(5) Insufficient Information. The potential that available biological, environmental, and socio-economic data may be insufficient to analyze the impacts of the exchange;

(6) Impacts to Rural Communities. The potential for both positive and negative impacts on rural communities within the Yukon Flats region;

(7) Loss of Native-owned Lands. There is opposition to the divestiture of Native lands within the Yukon Flats region;

(8) Socio-economic Benefits. The potential for oil development to provide high-paying jobs to local residents and strengthen the regional economy; and

(9) Refuge Benefits. The proposed exchange would increase the amount of land protected in the Refuge and would facilitate management by consolidating both Refuge and private ownerships.

Dated: September 8, 2005.
Rowan Gould,
Regional Director, U.S. Fish and Wildlife Service, Anchorage, Alaska.

[FR Doc. 05-20883 Filed 10-18-05; 8:45 am]

BILLING CODE 4310-JA-P